DEPARTMENT OF HEALTH AND HUMAN SERVICES

National Institutes of Health

National Toxicology Program Board of Scientific Counselors; Announcement of Meeting; Request for Comments

AGENCY: National Institutes of Health, HHS.

ACTION: Notice.

SUMMARY: This notice announces the next meeting of the National Toxicology Program (NTP) Board of Scientific Counselors (BSC). The BSC, a federally chartered, external advisory group composed of scientists from the public and private sectors provides advice on programmatic activities. This meeting complements year-long activities to ensure NTP's scientific direction, expertise, and capabilities are strategically positioned to address public health issues and provide the necessary scientific information to inform decision-making. The agenda includes talks by invited speakers on “The Changing Toxicology Landscape: Challenges and the Future of Risk Assessment” followed by time for BSC discussion and input to NTP. The talks were originally scheduled for December 11, 2018; however, the meeting day was cancelled due to inclement weather. This meeting is by webcast only and is open to the public. Registration is requested for oral comment and is required to access the webcast. Information about the meeting and registration are available at http://ntp.niehs.nih.gov/go/165.

DATES: Meeting: February 15, 2019; 10:00 a.m.-2:00 p.m. (EST).

Written Public Comment Submissions: Deadline is February 8, 2019.

Oral Comments: Deadline is February 8, 2019.

Registration to view the webcast: Deadline February 15, 2019.

Registration to view the meeting via the webcast is required.

ADDRESSES: Meeting web page: The preliminary agenda, registration, and other meeting materials will be posted at http://ntp.niehs.nih.gov/go/165.

Webcast: The meeting will be webcast; the URL will be provided to those who register for viewing.

This meeting notice is being published less than 15 days in advance of the meeting due to the partial Government shutdown of December 2018.

FOR FURTHER INFORMATION CONTACT: Dr. Mary Wolfe, Designated Federal Official for the BSC, Office of Liaison, Policy and Review, Division of NTP, NIEHS, P.O. Box 12233, K2-03, Research Triangle Park, NC 27709. Phone: 984-287-3209, Fax: 301-451-5759, Email: wolfe@niehs.nih.gov. Hand Deliver/Courier address: 530 Davis Drive, Room K2130, Morrisville, NC 27560.

SUPPLEMENTARY INFORMATION: The preliminary agenda topics include talks by invited speakers on “The Changing Toxicology Landscape: Challenges and the Future of Risk Assessment” that were not presented on December 11, 2018, as that meeting day was cancelled due to inclement weather. These talks complement year-long activities to ensure NTP's scientific direction, expertise, and capabilities are strategically positioned to address public health issues and provide the necessary scientific information to inform decision-making. The talks will be followed by BSC discussion and input to NTP. The preliminary agenda, roster of BSC members, background materials, public comments, and any additional information, when available, will be posted on the BSC meeting website (http://ntp.niehs.nih.gov/go/165) or may be requested in hardcopy from the Designated Federal Official for the BSC. Following the meeting, summary minutes will be prepared and made available on the BSC meeting website.

Meeting and Registration: The meeting is open to the public with time scheduled for oral public comments. Registration to view the webcast is by February 15, 2019, at http://ntp.niehs.nih.gov/go/165. Registration is required to view the webcast; the URL for the webcast will be provided in the email confirming registration. TTY users should contact the Federal TTY Relay Service at 800-877-8339. Requests should be made at least five business days in advance of the event.

Written Public Comments: NTP invites written and oral public comments on the agenda topics. Guidelines for public comments are available at https://ntp.niehs.nih.gov/ntp/about_ntp/guidelines_public_comments_508.pdf. The deadline for submission of written comments is February 8, 2019. Written public comments should be submitted through the meeting website. Persons submitting written comments should include name, affiliation, mailing address, phone, email, and sponsoring organization (if any). Written comments received in response to this notice will be posted on the NTP website, and the submitter will be identified by name, affiliation, and sponsoring organization (if any).

Oral Public Comments: The agenda allows for one public comment period (up to 6 commenters, 5 minutes per speaker). Registration for oral comments is on or before February 8, 2019, at http://ntp.niehs.nih.gov/go/165. Oral comments will be received only during the formal public comment periods indicated on the preliminary agenda. Oral comments will only be by teleconference line. The access number for the teleconference line will be provided to registrants by email prior to the meeting. Registration is on a first-come, first-served basis, and registrants will be assigned a number in their confirmation email. Each organization is allowed one time slot per comment period. After the maximum number of speakers is exceeded, individuals registered to provide oral comment will be placed on a wait list and notified should an opening become available.

Meeting Materials: The preliminary meeting agenda is available on the meeting web page (http://ntp.niehs.nih.gov/go/165) and will be updated one week before the meeting. Individuals are encouraged to access the meeting web page to stay abreast of the most current information regarding the meeting.

Background Information on the BSC: The BSC is a technical advisory body comprised of scientists from the public and private sectors that provides primary scientific oversight to the NTP. Specifically, the BSC advises the NTP on matters of scientific program content, both present and future, and conducts periodic review of the program for the purpose of determining and advising on the scientific merit of its activities and their overall scientific quality. Its members are selected from recognized authorities knowledgeable in fields such as toxicology, pharmacology, pathology, biochemistry, epidemiology, risk assessment, carcinogenesis, mutagenesis, molecular biology, behavioral toxicology, neurotoxicology, immunotoxicology, reproductive toxicology or teratology, and biostatistics. Members serve overlapping terms of up to four years. The BSC usually meets biannually. The authority for the BSC is provided by 42 U.S.C. 217a, section 222 of the Public Health Service Act (PHS), as amended.

The BSC is governed by the provisions of the Federal Advisory Committee Act, as amended (5 U.S.C. app.), which sets forth standards for the formation and use of advisory committees.

Dated: January 28, 2019.
Brian R. Berridge,
Associate Director, National Toxicology Program.

[FR Doc. 2019-00579 Filed 1-31-19; 8:45 am]

BILLING CODE 4140-01-P